DEPARTMENT OF TRANSPORTATION

Federal Aviation Administration

Notice of Intent To Request Approval From the Office of Management and Budget of a Currently Approved Information Collection Activity, Request for Comments; Passenger Facility Charge (PFC) Application

AGENCY: Federal Aviation Administration (FAA), DOT.

ACTION: Notice and request for comments.

SUMMARY: The FAA invites public comments about our intention to request the Office of Management and Budget (OMB) to approve a current information collection. 49 U.S.C. 40117 authorizes airports to impose passenger facility charges (PFC). This program requires public agencies and certain members of the aviation industry to prepare and submit applications and reports to the FAA. This program provides additional funding for airport development, which is needed now and in the future. This collection is covered by Federal Aviation Regulation (FAR) Part 158, including subsections 158.25, 158.35, 158.37, 158.43, 158.63, 158.65, 158.67, and 158.69.

DATES: Please submit comments by May 15, 2006.

FOR FURTHER INFORMATION CONTACT: Judy Street on (202) 267-9895, or by e-mail at: Judy.Street@faa.gov.

SUPPLEMENTARY INFORMATION:

Federal Aviation Administration (FAA)

Title: Passenger Facility Charge (PFC) Application.

Type of Request: Approval of a currently approved collection.

OMB Control Number: 2120-0557.

Form(s): FAA Form 5500-1.

Affected Public: An estimated 450 respondents.

Frequency: The information is collected on occasion.

Estimated Average Burden Per Response, per subsection of FAR Part 158:

158.25: Estimated 100 applications per year at an estimated 50 hours per response.

158.35: Estimated 1 response per year at an estimated 10 hours per response.

158.37: Estimated 250 responses per year at an estimated 16 hours per response.

158.43: Estimated 100 responses per year at an estimated 2 hours per response.

158.63: Estimated 1,200 responses per year at an estimated 10 hours per response, and 59 responses at an estimated 2 hours per response.

158.65: Estimated 600 responses per year at an estimated 2 hours per response.

158.67: Estimated 310 responses per year at an estimated 2 hours per response, and 20 responses per year at an estimated 40 hours per response.

158.69: Estimated 450 responses at an estimated 5.8 hours per response.

Estimated Annual Burden Hours: An estimated 26,548 hours annually.

Abstract: 49 U.S.C. 40117 authorizes airports to impose passenger facility charges (PFC). This program requires public agencies and certain members of the aviation industry to prepare and submit applications and reports to the FAA. This program provides additional funding for airport development, which is needed now and in the future.

ADDRESSES: Send comments to the FAA at the following address: Ms. Judy Street, Room 1033, Federal Aviation Administration, Standards and Information Division, ABA-20, 800 Independence Ave., SW., Washington, DC 20591.

Comments are invited on: Whether the proposed collection of information is necessary for the proper performance of the functions of the Department, including whether the information will have practical utility, the accuracy of the Department's estimates of the burden of the proposed information collection; ways to enhance the quality, utility and clarity of the information to be collected; and ways to minimize the burden of the collection of information on respondents, including the use of automated collection techniques or other forms of information technology.

Issued in Washington, DC, on March 9, 2006.
Judith D. Street,
FAA Information Collection Clearance Officer, Information Systems and Technology Services Staff, ABA-20.

[FR Doc. 06-2497 Filed 3-14-06; 8:45 am]

BILLING CODE 4910-13-M